CUMULATIVE LIST OF PUBLIC LAWS

This is the cumulative list of public laws for the 106th Congress, Second Session. Other cumulative lists (1993-1999) are available online at http://www.nara.gov/fedreg. Comments may be addressed to the Director, Office of the Federal Register, Washington, DC 20408 or send e-mail to info@nara.fedreg.gov.

The text of laws may be ordered in individual pamphlet form (referred to as “slip laws”) from the Superintendent of Documents, U.S. Government Printing Office, Washington, DC 20402 (phone, 202-512-2470). The text will also be made available on the Internet from GPO Access at http://www.acess.gpo.gov/nara/index.html. Some laws may not yet be available online or for purchase.

Public Law | Title | Approved | 114 Stat.
106-171 | Electronic Benefit Transfer Interoperability and Portability Act of 2000 | Feb. 11, 2000 | 3
106-172 | Hillory J. Farias and Samantha Reid Date-Rape Drug Prohibition Act of 2000 | Feb. 18, 2000 | 7
106-173 | Abraham Lincoln Bicentennial Commission Act | Feb. 25, 2000 | 14
106-174 | Poison Control Center Enhancement and Awareness Act | Feb. 25, 2000 | 18
106-175 | To authorize the President to award a gold medal on behalf of the Congress to John Cardinal O'Connor, Archbishop of New York, in recognition of his accomplishments as a priest, a chaplain, and a humanitarian | Mar. 5, 2000 | 21
106-176 | Omnibus Parks Technical Corrections Act of 2000 | Mar. 10, 2000 | 23
106-177 | To reduce the incidence of child abuse and neglect, and for other purposes | Mar. 10, 2000 | 35
106-178 | Iran Nonproliferation Act of 2000 | Mar. 14, 2000 | 38
106-179 | Indian Tribal Economic Development and Contract Encouragement Act of 2000 | Mar. 14, 2000 | 46
106-180 | Open-market Reorganization for the Betterment of International Telecommunications Act | Mar. 17, 2000 | 48
106-181 | Wendell H. Ford Aviation Investment and Reform Act for the 21st Century | Apr. 5, 2000 | 61
106-182 | Senior Citizens' Freedom to Work Act of 2000 | Apr. 7, 2000 | 198
106-183 | To designate the United States Post Office building located at 680 U.S. Highway 130 in Hamilton, New Jersey, as the “John K. Rafferty Hamilton Post Office Building” | Apr. 13, 2000 | 200
106-184 | To designate the United States post office located at 14071 Peyton Drive in Chino Hills, California, as the “Joseph Ileto Post Office” | Apr. 14, 2000 | 201
106-185 | Civil Asset Forfeiture Reform Act of 2000 | Apr. 25, 2000 | 202
106-186 | Expressing the sense of Congress that the President of the United States should encourage free and fair elections and respect for democracy in Peru | Apr. 25, 2000 | 226
106-187 | To direct the Secretary of Agriculture to convey certain National Forest lands to Elko County, Nevada, for continued use as a cemetery | Apr. 28, 2000 | 227
106-188 | Bikini Resettlement and Relocation Act of 2000 | Apr. 28, 2000 | 228
106-189 | To direct the Secretary of the Interior to release reversionary interests held by the United States in certain parcels of land in Washington County, Utah, to facilitate an anticipated land exchange | Apr. 28, 2000 | 229
106-190 | To clarify the legal effect on the United States of the acquisition of a parcel of land in the Red Cliffs Desert Reserve in the State of Utah | Apr. 28, 2000 | 230
106-191 | To amend the Mineral Leasing Act to increase the maximum acreage of Federal leases for sodium that may be held by an entity in any one State, and for other purposes | Apr. 28, 2000 | 231
106-192 | Lamprey Wild and Scenic River Extension Act | May 2, 2000 | 233
106-193 | Methane Hydrate Research and Development Act of 2000 | May 2, 2000 | 234
106-194 | To amend the Alaska Native Claims Settlement Act to restore certain lands to the Elim Native Corporation, and for other purposes | May 2, 2000 | 239
106-195 | Recognizing the 50th anniversary of the Korean War and the service by members of the Armed Forces during such war, and for other purposes | May 2, 2000 | 244
106-196 | To designate the United States courthouse located at 223 Broad Avenue in Albany, Georgia, as the “C.B. King United States Courthouse” | May 2, 2000 | 245
106-197 | To exempt certain reports from automatic elimination and sunset pursuant to the Federal Reports Elimination and Sunset Act of 1995, and for other purposes | May 2, 2000 | 246
106-198 | Providing for the appointment of Alan G. Spoon as a citizen regent of the Board of Regents of the Smithsonian Institution | May 5, 2000 | 249
106-199 | Providing for the reappointment of Manuel L. IbaÿAE1nÿAE6ez as a citizen regent of the Board of Regents of the Smithsonian Institution | May 5, 2000 | 250
106-200 | Trade and Development Act of 2000 | May 18, 2000 | 251
106-201 | To amend the Endangered Species Act of 1973 to provide that certain species conservation reports shall continue to be required to be submitted | May 18, 2000 | 307
106-202 | Worker Economic Opportunity Act | May 18, 2000 | 308
106-203 | To designate the Federal building and United States courthouse located at 1300 South Harrison Street in Fort Wayne, Indiana, as the “E. Ross Adair Federal Building and United States Courthouse” | May 22, 2000 | 310
106-204 | To designate the Federal building located at 500 Pearl Street in New York City, New York, as the “Daniel Patrick Moynihan United States Courthouse” | May 23, 2000 | 311
106-205 | Supporting the Day of Honor 2000 to honor and recognize the service of minority veterans in the United States Armed Forces during World War II | May 26, 2000 | 312
106-206 | To allow the Secretary of the Interior and the Secretary of Agriculture to establish a fee system for commercial filming activities on Federal land, and for other purposes | May 26, 2000 | 314
106-207 | Hmong Veterans' Naturalization Act of 2000 | May 26, 2000 | 316
106-208 | National Historic Preservation Act Amendments of 2000 | May 26, 2000 | 318
106-209 | To designate the facility of the United States Postal Service located at 9308 South Chicago Avenue, Chicago, Illinois, as the “John J. Buchanan Post Office Building” | May 26, 2000 | 320
106-210 | Muhammad Ali Boxing Reform Act | May 26, 2000 | 321
106-211 | To amend the Higher Education Act of 1965 to improve the program for American Indian Tribal Colleges and Universities under part A of title III | May 26, 2000 | 330
106-212 | American Institute in Taiwan Facilities Enhancement Act | May 26, 2000 | 332
106-213 | To extend the deadline for commencement of construction of a hydroelectric project in the State of Alabama | May 26, 2000 | 334
106-214 | To amend the law that authorized the Vietnam Veterans Memorial to authorize the placement within the site of the memorial of a plaque to honor those Vietnam veterans who died after their service in the Vietnam war, but as a direct result of that service | June 15, 2000 | 335
106-215 | Immigration and Naturalization Service Data Management Improvement Act of 2000 | June 15, 2000 | 337
106-216 | To authorize leases for terms not to exceed 99 years on land held in trust for the Torres Martinez Desert Cahuilla Indians and the Guidiville Band of Pomo Indians of the Guidiville Indian Rancheria | June 20, 2000 | 343
106-217 | To provide that land which is owned by the Lower Sioux Indian Community in the State of Minnesota but which is not held in trust by the United States for the Community may be leased or transferred by the Community without further approval by the United States | June 20, 2000 | 344
106-218 | To designate the Federal building located at 2201 C Street, Northwest, in the District of Columbia, currently headquarters for the Department of State, as the “Harry S Truman Federal Building” | June 20, 2000 | 345
106-219 | To designate the Washington Opera in Washington, D.C., as the National Opera | June 20, 2000 | 346
106-220 | Carlsbad Irrigation Project Acquired Land Transfer Act | June 20, 2000 | 347
106-221 | Wellton-Mohawk Transfer Act | June 20, 2000 | 351
106-222 | Freedom to E-File Act | June 20, 2000 | 353
106-223 | To authorize the award of the Medal of Honor to Ed W. Freeman, James K. Okubo, and Andrew J. Smith | June 20, 2000 | 356
106-224 | Agricultural Risk Protection Act of 2000 | June 20, 2000 | 358
106-225 | To authorize the President to award posthumously a gold medal on behalf of the Congress to Charles M. Schulz in recognition of his lasting artistic contributions to the Nation and the world, and for other purposes | June 20, 2000 | 457
106-226 | To provide that the School Governance Charter Amendment Act of 2000 shall take effect upon the date such Act is ratified by the voters of the District of Columbia | June 27, 2000 | 459
106-227 | Recognizing the 225th birthday of the United States Army | June 28, 2000 | 460
106-228 | To make technical corrections to the status of certain land held in trust for the Mississippi Band of Choctaw Indians, to take certain land into trust for that Band, and for other purposes | June 29, 2000 | 462
106-229 | Electronic Signatures in Global and National Commerce Act | June 30, 2000 | 464
106-230 | To amend the Internal Revenue Code of 1986 to require 527 organizations to disclose their political activities | July 1, 2000 | 477
106-231 | To redesignate the Federal building located at 701 South Santa Fe Avenue in Compton, California, and known as the Compton Main Post Office, as the “Mervyn Malcolm Dymally Post Office Building” | July 6, 2000 | 484
106-232 | To redesignate the Federal building located at 10301 South Compton Avenue, in Los Angeles, California, and known as the Watts Finance Office, as the “Augustus F. Hawkins Post Office Building” | July 6, 2000 | 485
106-233 | To designate the facility of the United States Postal Service at 200 East Pinckney Street in Madison, Florida, as the “Captain Colin P. Kelly, Jr. Post Office” | July 6, 2000 | 486
106-234 | To designate the building of the United States Postal Service located at 5 Cedar Street in Hopkinton, Massachusetts, as the “Thomas J. Brown Post Office Building” | July 6, 2000 | 487
106-235 | To designate the United States Post Office located at 3675 Warrensville Center Road in Shaker Heights, Ohio, as the “Louise Stokes Post Office” | July 6, 2000 | 488
106-236 | To designate the United States Post Office located at 125 Border Avenue West in Wiggins, Mississippi, as the “Jay Hanna ‘Dizzy’ Dean Post Office” | July 6, 2000 | 489
106-237 | To designate the United States Post Office located at 713 Elm Street in Wakefield, Kansas, as the “William H. Avery Post Office” | July 6, 2000 | 490
106-238 | To redesignate the facility of the United States Postal Service located at 100 Orchard Park Drive in Greenville, South Carolina, as the “Keith D. Oglesby Station” | July 6, 2000 | 491
106-239 | To designate certain facilities of the United States Postal Service in South Carolina | July 6, 2000 | 492
106-240 | To designate the facility of the United States Postal Service located at 8409 Lee Highway in Merrifield, Virginia, as the “Joel T. Broyhill Postal Building” | July 6, 2000 | 494
106-241 | To designate the facility of the United States Postal Service located at 3118 Washington Boulevard in Arlington, Virginia, as the “Joseph L. Fisher Post Office Building” | July 6, 2000 | 495
106-242 | To designate the facility of the United States Postal Service located at 1818 Milton Avenue in Janesville, Wisconsin, as the “Les Aspin Post Office Building” | July 6, 2000 | 496
106-243 | To direct the Secretary of the Interior, the Bureau of Reclamation, to conduct a feasibility study on the Jicarilla Apache Reservation in the State of New Mexico, and for other purposes | July 10, 2000 | 497
106-244 | To amend title I of the Employee Retirement Income Security Act of 1974 to provide for the preemption of State law in certain cases relating to certain church plans | July 10, 2000 | 499
106-245 | Radiation Exposure Compensation Act Amendments of 2000 | July 10, 2000 | 501
106-246 | Making appropriations for military construction, family housing, and base realignment and closure for the Department of Defense for the fiscal year ending September 30, 2001, and for other purposes | July 13, 2000 | 511
106-247 | Neotropical Migratory Bird Conservation Act | July 20, 2000 | 593
106-248 | To authorize the acquisition of the Valles Caldera, to provide for an effective land and wildlife management program for this resource within the Department of Agriculture, and for other purposes | July 25, 2000 | 598
106-249 | Griffith Project Prepayment and Conveyance Act | July 26, 2000 | 619
106-250 | Pope John Paul II Congressional Gold Medal Act | July 27, 2000 | 622
106-251 | To provide for the award of a gold medal on behalf of the Congress to former President Ronald Reagan and his wife Nancy Reagan in recognition of their service to the Nation | July 27, 2000 | 624
106-252 | Mobile Telecommunications Sourcing Act | July 28, 2000 | 626
106-253 | Semipostal Authorization Act | July 28, 2000 | 634
106-254 | Federal Law Enforcement Animal Protection Act of 2000 | Aug. 2, 2000 | 638
106-255 | Cross-Border Cooperation and Environmental Safety in Northern Europe Act of 2000 | Aug. 2, 2000 | 639
106-256 | Oceans Act of 2000 | Aug. 7, 2000 | 644
106-257 | Oregon Land Exchange Act of 2000 | Aug. 8, 2000 | 650
106-258 | To amend the Act establishing Women's Rights National Historical Park to permit the Secretary of the Interior to acquire title in fee simple to the Hunt House located in Waterloo, New York | Aug. 8, 2000 | 655
106-259 | Department of Defense Appropriations Act, 2001 | Aug. 9, 2000 | 656
106-260 | Tribal Self-Governance Amendments of 2000 | Aug. 18, 2000 | 711
106-261 | To designate Wilson Creek in Avery and Caldwell Counties, North Carolina, as a component of the National Wild and Scenic Rivers System | Aug. 18, 2000 | 735
106-262 | To name the Department of Veterans Affairs outpatient clinic in Rome, New York, as the “Donald J. Mitchell Department of Veterans Affairs Outpatient Clinic” | Aug. 18, 2000 | 736
106-263 | Shivwits Band of the Paiute Indian Tribe of Utah Water Rights Settlement Act | Aug. 18, 2000 | 737
106-264 | Global AIDS and Tuberculosis Relief Act of 2000 | Aug. 19, 2000 | 748
106-265 | To amend title 5, United States Code, to provide for the establishment of a program under which long-term care insurance is made available to Federal employees, members of the uniformed services, and civilian and military retirees, provide for the correction of retirement coverage errors under chapters 83 and 84 of such title, and for other purposes | Sept. 19, 2000 | 762
106-266 | To designate the Federal facility located at 1301 Emmet Street in Charlottesville, Virginia, as the “Pamela B. Gwin Hall” | Sept. 22, 2000 | 787
106-267 | To designate the United States border station located in Pharr, Texas, as the “Kika de la Garza United States Border Station” | Sept. 22, 2000 | 788
106-268 | To designate the Federal building located at 643 East Durango Boulevard in San Antonio, Texas, as the “Adrian A. Spears Judicial Training Center” | Sept. 22, 2000 | 789
106-269 | To designate the United States courthouse located at 220 West Depot Street in Greeneville, Tennessee, as the “James H. Quillen United States Courthouse” | Sept. 22, 2000 | 790
106-270 | Deschutes Resources Conservancy Reauthorization Act of 2000 | Sept. 22, 2000 | 791
106-271 | Corinth Battlefield Preservation Act of 2000 | Sept. 22, 2000 | 792
106-272 | Jackson Multi-Agency Campus Act of 2000 | Sept. 22, 2000 | 797
106-273 | To amend the Pacific Northwest Electric Power Planning and Conservation Act to provide for sales of electricity by the Bonneville Power Administration to joint operating entities | Sept. 22, 2000 | 802
106-274 | Religious Land Use and Institutionalized Persons Act of 2000 | Sept. 22, 2000 | 803
106-275 | Making continuing appropriations for the fiscal year 2001, and for other purposes | Sept. 29, 2000 | 808
106-276 | To amend the Omnibus Crime Control and Safe Streets Act of 1968 to extend the retroactive eligibility dates for financial assistance for higher education for spouses and dependent children of Federal, State, and local law enforcement officers who are killed in the line of duty | Oct. 2, 2000 | 812
106-277 | To authorize the payment of rewards to individuals furnishing information relating to persons subject to indictment for serious violations of international humanitarian law in Rwanda, and for other purposes | Oct. 2, 2000 | 813
106-278 | To designate the Lackawanna Valley and the Schuylkill River National Heritage Areas, and for other purposes | Oct. 6, 2000 | 814
106-279 | Intercountry Adoption Act of 2000 | Oct. 6, 2000 | 825
106-280 | Security Assistance Act of 2000 | Oct. 6, 2000 | 845
106-281 | FHA Downpayment Simplification Extension Act of 2000 | Oct. 6, 2000 | 865
106-282 | Making further continuing appropriations for the fiscal year 2001, and for other purposes | Oct. 6, 2000 | 866
106-283 | Kake Tribal Corporation Land Transfer Act | Oct. 6, 2000 | 867
106-284 | Beaches Environmental Assessment and Coastal Health Act of 2000 | Oct. 10, 2000 | 870
106-285 | To amend the Act entitled “An Act relating to the water rights of the Ak-Chin Indian Community” to clarify certain provisions concerning the leasing of such water rights, and for other purposes | Oct. 10, 2000 | 878
106-286 | To authorize extension of nondiscriminatory treatment (normal trade relations treatment) to the People's Republic of China, and to establish a framework for relations between the United States and the People's Republic of China | Oct. 10, 2000 | 880
106-287 | To grant the consent of the Congress to the Kansas and Missouri Metropolitan Culture District Compact | Oct. 10, 2000 | 909
106-288 | Granting the consent of the Congress to the Red River Boundary Compact | Oct. 10, 2000 | 919
106-289 | To designate the United States Post Office located at 3813 Main Street in East Chicago, Indiana, as the “Lance Corporal Harold Gomez Post Office” | Oct. 10, 2000 | 920
106-290 | To expand the boundaries of the Gettysburg National Military Park to include the Wills House, and for other purposes | Oct. 10, 2000 | 921
106-291 | Department of the Interior and Related Agencies Appropriations Act, 2001 | Oct. 11, 2000 | 922
106-292 | To authorize appropriations for the United States Holocaust Memorial Museum, and for other purposes | Oct. 12, 2000 | 1030
106-293 | Presidential Transition Act of 2000 | Oct. 12, 2000 | 1035
106-294 | Federal Prisoner Health Care Copayment Act of 2000 | Oct. 12, 2000 | 1038
106-295 | To designate the bridge on United States Route 231 that crosses the Ohio River between Maceo, Kentucky, and Rockport, Indiana, as the “William H. Natcher Bridge” | Oct. 13, 2000 | 1043
106-296 | To designate the Federal building and United States courthouse located at 402 North Walnut Street in Harrison, Arkansas, as the “J. Smith Henley Federal Building and United States Courthouse” | Oct. 13, 2000 | 1044
106-297 | Death in Custody Reporting Act of 2000 | Oct. 13, 2000 | 1045
106-298 | Lincoln County Land Act of 2000 | Oct. 13, 2000 | 1046
106-299 | Wekiva Wild and Scenic River Act of 2000 | Oct. 13, 2000 | 1050
106-300 | Red River National Wildlife Refuge Act | Oct. 13, 2000 | 1055
106-301 | Utah West Desert Land Exchange Act of 2000 | Oct. 13, 2000 | 1059
106-302 | To extend the authorization for the Air Force Memorial Foundation to establish a memorial in the District of Columbia or its environs | Oct. 13, 2000 | 1062
106-303 | To make certain personnel flexibilities available with respect to the General Accounting Office, and for other purposes | Oct. 13, 2000 | 1063
106-304 | To designate the Federal building located at 1710 Alabama Avenue in Jasper, Alabama, as the “Carl Elliott Federal Building” | Oct. 13, 2000 | 1071
106-305 | To designate the United States customhouse located at 101 East Main Street in Norfolk, Virginia, as the “Owen B. Pickett United States Customhouse” | Oct. 13, 2000 | 1072
106-306 | Making further continuing appropriations for the fiscal year 2001, and for other purposes | Oct. 13, 2000 | 1073
106-307 | El Camino Real de Tierra Adentro National Historic Trail Act | Oct. 13, 2000 | 1074
106-308 | To designate the Federal courthouse at 145 East Simpson Avenue in Jackson, Wyoming, as the “Clifford P. Hansen Federal Courthouse” | Oct. 13, 2000 | 1077
106-309 | Microenterprise for Self-Reliance and International Anti-Corruption Act of 2000 | Oct. 17, 2000 | 1078
106-310 | Children's Health Act of 2000 | Oct. 17, 2000 | 1101
106-311 | To increase the amount of fees charged to employers who are petitioners for the employment of H-1B non-immigrant workers, and for other purposes | Oct. 17, 2000 | 1247
106-312 | Truth in Regulating Act of 2000 | Oct. 17, 2000 | 1248
106-313 | To amend the Immigration and Nationality Act with respect to H-1B nonimmigrant aliens | Oct. 17, 2000 | 1251
106-314 | Strengthening Abuse and Neglect Courts Act of 2000 | Oct. 17, 2000 | 1266
106-315 | To designate the building of the United States Postal Service located at 307 Main Street in Johnson City, New York, as the “James W. McCabe, Sr. Post Office Building” | Oct. 19, 2000 | 1275
106-316 | To reauthorize the Junior Duck Stamp Conservation and Design Program Act of 1994. | Oct. 19, 2000 | 1276
106-317 | To make technical corrections to title X of the Energy Policy Act of 1992 | Oct. 19, 2000 | 1277
106-318 | Taunton River Wild and Scenic River Study Act of 2000 | Oct. 19, 2000 | 1278
106-319 | Yuma Crossing National Heritage Area Act of 2000 | Oct. 19, 2000 | 1280
106-320 | To designate the facility of the United States Postal Service located at 424 South Michigan Street in South Bend, Indiana, as the “John Brademas Post Office” | Oct. 19, 2000 | 1286
106-321 | To designate the facility of the United States Postal Service located at 757 Warren Road in Ithaca, New York, as the “Matthew F. McHugh Post Office” | Oct. 19, 2000 | 1287
106-322 | To designate the United States post office located at 451 College Street in Macon, Georgia, as the “Henry McNeal Turner Post Office” | Oct. 19, 2000 | 1288
106-323 | Effigy Mounds National Monument Additions Act | Oct. 19, 2000 | 1289
106-324 | To dedicate the Big South Trail in the Comanche Peak Wilderness Area of Roosevelt National Forest in Colorado to the legacy of Jaryd Atadero | Oct. 19, 2000 | 1291
106-325 | To designate the facility of the United States Postal Service located at 4601 South Cottage Grove Avenue in Chicago, Illinois, as the “Henry W. McGee Post Office Building” | Oct. 19, 2000 | 1292
106-326 | To redesignate the facility of the United States Postal Service located at 14900 Southwest 30th Street in Miramar, Florida, as the “Vicki Coceano Post Office Building” | Oct. 19, 2000 | 1293
106-327 | To designate the facility of the United States Postal Service located at 600 Lincoln Avenue in Pasadena, California, as the “Matthew ‘Mack’ Robinson Post Office Building” | Oct. 19, 2000 | 1294
106-328 | To designate the facility of the United States Postal Service located at 2000 Vassar Street in Reno, Nevada, as the “Barbara F. Vucanovich Post Office Building” | Oct. 19, 2000 | 1295
106-329 | Black Hills National Forest and Rocky Mountain Research Station Improvement Act | Oct. 19, 2000 | 1296
106-330 | Texas National Forests Improvement Act of 2000 | Oct. 19, 2000 | 1299
106-331 | Cahaba River National Wildlife Refuge Establishment Act | Oct. 19, 2000 | 1303
106-332 | To clarify certain boundaries on the map relating to Unit NC-01 of the Coastal Barrier Resources System | Oct. 19, 2000 | 1306
106-333 | To designate the facility of the United States Postal Service located at 919 West 34th Street in Baltimore, Maryland, as the “Samuel H. Lacy, Sr. Post Office Building” | Oct. 19, 2000 | 1307
106-334 | To designate the facility of the United States Postal Service located at 3500 Dolfield Avenue in Baltimore, Maryland, as the “Judge Robert Bernard Watts, Sr. Post Office Building” | Oct. 19, 2000 | 1308
106-335 | To designate the facility of the United States Postal Service located at 1908 North Ellamont Street in Baltimore, Maryland, as the “Dr. Flossie McClain Dedmond Post Office Building” | Oct. 19, 2000 | 1309
106-336 | To designate the facility of the United States Postal Service located at 500 North Washington Street in Rockville, Maryland, as the “Everett Alvarez, Jr. Post Office Building” | Oct. 19, 2000 | 1310
106-337 | To designate the facility of the United States Postal Service located at 24 Tsienneto Road in Derry, New Hampshire, as the “Alan B. Shepard, Jr. Post Office Building” | Oct. 19, 2000 | 1311
106-338 | To redesignate the facility of the United States Postal Service located at 114 Ridge Street, N.W. in Lenoir, North Carolina, as the “James T. Broyhill Post Office Building” | Oct. 19, 2000 | 1312
106-339 | To redesignate the facility of the United States Postal Service located at 1602 Frankford Avenue in Philadelphia, Pennsylvania, as the “Joseph F. Smith Post Office Building” | Oct. 19, 2000 | 1313
106-340 | To redesignate the facility of the United States Postal Service located at 3030 Meredith Avenue in Omaha, Nebraska, as the “Reverend J.C. Wade Post Office” | Oct. 19, 2000 | 1314
106-341 | To designate the facility of the United States Postal Service located at 301 Green Street in Fayetteville, North Carolina, as the “J.L. Dawkins Post Office Building” | Oct. 19, 2000 | 1315
106-342 | To redesignate the facility of the United States Postal Service located at 200 West 2nd Street in Royal Oak, Michigan, as the “William S. Broomfield Post Office Building” | Oct. 19, 2000 | 1316
106-343 | To extend the deadline under the Federal Power Act for commencement of the construction of the Arrowrock Dam Hydroelectric Project in the State of Idaho | Oct. 19, 2000 | 1317
106-344 | Making further continuing appropriations for the fiscal year 2001, and for other purposes | Oct. 20, 2000 | 1318
106-345 | Ryan White CARE Act Amendments of 2000 | Oct. 20, 2000 | 1319
106-346* | Making appropriations for the Department of Transportation and related agencies for the fiscal year ending September 30, 2001, and for other purposes | Oct. 23, 2000 | 1356
106-347 | To designate the post office and courthouse located at 2 Federal Square, Newark, New Jersey, as the “Frank R. Lautenberg Post Office and Courthouse” | Oct. 23, 2000 | 1357
106-348 | To authorize the Disabled Veterans' LIFE Memorial Foundation to establish a memorial in the District of Columbia or its environs to honor veterans who became disabled while serving in the Armed Forces of the United States | Oct. 24, 2000 | 1358
106-349 | Carter G. Woodson Home National Historic Site Study Act of 2000 | Oct. 24, 2000 | 1359
106-350 | Golden Gate National Recreation Area Boundary Adjustment Act of 2000 | Oct. 24, 2000 | 1361
106-351 | Santa Rosa and San Jacinto Mountains National Monument Act of 2000 | Oct. 24, 2000 | 1362
106-352 | Rosie the Riveter/World War II Home Front National Historical Park Establishment Act of 2000 | Oct. 24, 2000 | 1370
106-353 | Colorado Canyons National Conservation Area and Black Ridge Canyons Wilderness Act of 2000 | Oct. 24, 2000 | 1374
106-354 | Breast and Cervical Cancer Prevention and Treatment Act of 2000 | Oct. 24, 2000 | 1381
106-355 | National Historic Lighthouse Preservation Act of 2000 | Oct. 24, 2000 | 1385
106-356 | Dayton Aviation Heritage Preservation Amendments Act of 2000 | Oct. 24, 2000 | 1391
106-357 | White Clay Creek Wild and Scenic Rivers System Act | Oct. 24, 2000 | 1393
106-358 | Making further continuing appropriations for the fiscal year 2001, and for other purposes | Oct. 26, 2000 | 1397
106-359 | Making further continuing appropriations for the fiscal year 2001, and for other purposes | Oct. 26, 2000 | 1398
106-360 | To direct the Secretary of the Interior to make technical corrections to a map relating to the Coastal Barrier Resources System | Oct. 27, 2000 | 1399
106-361 | To amend title 5, United States Code, to allow for the contribution of certain rollover distributions to accounts in the Thrift Savings Plan, to eliminate certain waiting-period requirements for participating in the Thrift Savings Plan, and for other purposes | Oct. 27, 2000 | 1400
106-362 | Ivanpah Valley Airport Public Lands Transfer Act | Oct. 27, 2000 | 1404
106-363 | To extend and reauthorize the Defense Production Act of 1950 | Oct. 27, 2000 | 1407
106-364 | To amend the Revised Organic Act of the Virgin Islands to provide that the number of members on the legislature of the Virgin Islands and the number of such members constituting a quorum shall be determined by the laws of the Virgin Islands, and for other purposes | Oct. 27, 2000 | 1408
106-365 | To provide for the placement at the Lincoln Memorial of a plaque commemorating the speech of Martin Luther King, Jr., known as the “I Have A Dream” speech | Oct. 27, 2000 | 1409
106-366 | To direct the Secretary of the Interior, through the Bureau of Reclamation, to convey to the Loup Basin Reclamation District, the Sargent River Irrigation District, and the Farwell Irrigation District, Nebraska, property comprising the assets of the Middle Loup Division of the Missouri River Basin Project, Nebraska | Oct. 27, 2000 | 1410
106-367 | National Police Athletic League Youth Enrichment Act of 2000 | Oct. 27, 2000 | 1412
106-368 | To authorize the Secretary of the Interior to enter into contracts with the Weber Basin Water Conservancy District, Utah, to use Weber Basin Project facilities for the impounding, storage, and carriage of nonproject water for domestic, municipal, industrial, and other beneficial purposes | Oct. 27, 2000 | 1416
106-369 | Cat Island National Wildlife Refuge Establishment Act | Oct. 27, 2000 | 1417
106-370 | Duchesne City Water Rights Conveyance Act | Oct. 27, 2000 | 1421
106-371 | To increase the amount authorized to be appropriated for the north side pumping division of the Minidoka reclamation project, Idaho | Oct. 27, 2000 | 1424
106-372 | To provide for a study of the engineering feasibility of a water exchange in lieu of electrification of the Chandler Pumping Plant at Prosser Diversion Dam, Washington | Oct. 27, 2000 | 1425
106-373 | Famine Prevention and Freedom From Hunger Improvement Act of 2000 | Oct. 27, 2000 | 1427
106-374 | To reauthorize grants for water resources research and technology institutes established under the Water Resources Research Act of 1984 | Oct. 27, 2000 | 1434
106-375 | National Museum of the American Indian Commemorative Coin Act of 2000 | Oct. 27, 2000 | 1435
106-376 | To direct the Secretary of the Interior to convey certain water distribution facilities to the Northern Colorado Water Conservancy District | Oct. 27, 2000 | 1439
106-377* | Making appropriations for the Departments of Veterans Affairs and Housing and Urban Development, and for sundry independent agencies, boards, commissions, corporations, and offices for the fiscal year ending September 30, 2001, and for other purposes | Oct. 27, 2000 | 1441
106-378 | To provide for the adjustment of status of certain Syrian nationals | Oct. 27, 2000 | 1442
106-379 | Work Made For Hire and Copyright Corrections Act of 2000 | Oct. 27, 2000 | 1444
106-380 | Veterans' Oral History Project Act | Oct. 27, 2000 | 1447
106-381 | Making further continuing appropriations for the fiscal year 2001, and for other purposes | Oct. 27, 2000 | 1450
106-382 | Fort Peck Reservation Rural Water System Act of 2000 | Oct. 27, 2000 | 1451
106-383 | To authorize the Smithsonian Institution to plan, design, construct, and equip laboratory, administrative, and support space to house base operations for the Smithsonian Astrophysical Observatory Submillimeter Array located on Mauna Kea at Hilo, Hawaii | Oct. 27, 2000 | 1459
106-384 | To amend chapter 36 of title 39, United States Code, to modify rates relating to reduced rate mail matter, and for other purposes | Oct. 27, 2000 | 1460
106-385 | To rename the National Museum of American Art | Oct. 27, 2000 | 1463
106-386 | Victims of Trafficking and Violence Protection Act of 2000 | Oct. 28, 2000 | 1464
106-387* | Making appropriations for Agriculture, Rural Development, Food and Drug Administration, and Related Agencies programs for the fiscal year ending September 30, 2001, and for other purposes | Oct. 28, 2000 | 1549
106-388 | Making further continuing appropriations for the fiscal year 2001, and for other purposes | Oct. 28, 2000 | 1550
106-389 | Making further continuing appropriations for the fiscal year 2001, and for other purposes | Oct. 29, 2000 | 1551
106-390 | Disaster Mitigation Act of 2000 | Oct. 30, 2000 | 1552
106-391 | National Aeronautics and Space Administration Authorization Act of 2000 | Oct. 30, 2000 | 1577
106-392 | To authorize the Bureau of Reclamation to provide cost sharing for the endangered fish recovery implementation programs for the Upper Colorado and San Juan River Basins | Oct. 30, 2000 | 1602
106-393 | Secure Rural Schools and Community Self-Determination Act of 2000 | Oct. 30, 2000 | 1607
106-394 | Federal Employees Health Benefits Children's Equity Act of 2000 | Oct. 30, 2000 | 1629
106-395 | Child Citizenship Act of 2000 | Oct. 30, 2000 | 1631
106-396 | Visa Waiver Permanent Program Act | Oct. 30, 2000 | 1637
106-397 | District of Columbia Receivership Accountability Act of 2000 | Oct. 30, 2000 | 1651
106-398* | To authorize appropriations for fiscal year 2001 for military activities of the Department of Defense, for military construction, and for defense activities of the Department of Energy, to prescribe personnel strengths for such fiscal year for the Armed Forces, and for other purposes | Oct. 30, 2000 | 1654
106-399 | Steens Mountain Cooperative Management and Protection Act of 2000 | Oct. 30, 2000 | 1655
106-400 | To rename the Stewart B. McKinney Homeless Assistance Act as the “McKinney-Vento Homeless Assistance Act” | Oct. 30, 2000 | 1675
106-401 | Making further continuing appropriations for the fiscal year 2001, and for other purposes | Oct. 30, 2000 | 1676
106-402 | Developmental Disabilities Assistance and Bill of Rights Act of 2000 | Oct. 30, 2000 | 1677
106-403 | Making further continuing appropriations for the fiscal year 2001, and for other purposes | Nov. 1, 2000 | 1741
106-404 | Technology Transfer Commercialization Act of 2000 | Nov. 1, 2000 | 1742
106-405 | Commercial Space Transportation Competitiveness Act of 2000 | Nov. 1, 2000 | 1751
106-406 | International Patient Act of 2000 | Nov. 1, 2000 | 1755
106-407 | Southeast Federal Center Public-Private Development Act of 2000 | Nov. 1, 2000 | 1758
106-408 | Fish and Wildlife Programs Improvement and National Wildlife Refuge System Centennial Act of 2000 | Nov. 1, 2000 | 1762
106-409 | Religious Workers Act of 2000 | Nov. 1, 2000 | 1787
106-410 | To amend title 44, United States Code, to authorize appropriations for the National Historical Publications and Records Commission for fiscal years 2002 through 2005 | Nov. 1, 2000 | 1788
106-411 | Great Ape Conservation Act of 2000 | Nov. 1, 2000 | 1789
106-412 | To authorize the exchange of land between the Secretary of the Interior and the Director of Central Intelligence at the George Washington Memorial Parkway in McLean, Virginia, and for other purposes | Nov. 1, 2000 | 1795
106-413 | Veterans' Compensation Cost-of-Living Adjustment Act of 2000 | Nov. 1, 2000 | 1798
106-414 | Transportation Recall Enhancement, Accountability, and Documentation (TREAD) Act | Nov. 1, 2000 | 1800
106-415 | To amend the Hmong Veterans' Naturalization Act of 2000 to extend the applicability of that Act to certain former spouses of deceased Hmong veterans. | Nov. 1, 2000 | 1810
106-416 | Making further continuing appropriations for the fiscal year 2001, and for other purposes | Nov. 1, 2000 | 1811
106-417 | Alaska Native and American Indian Direct Reimbursement Act of 2000 | Nov. 1, 2000 | 1812
106-418 | Lower Delaware Wild and Scenic Rivers Act | Nov. 1, 2000 | 1817
106-419 | Veterans Benefits and Health Care Improvement Act of 2000 | Nov. 1, 2000 | 1822
106-420 | College Scholarship Fraud Prevention Act of 2000 | Nov. 1, 2000 | 1867
106-421 | Castle Rock Ranch Acquisition Act of 2000 | Nov. 1, 2000 | 1870
106-422 | To amend the Inspector General Act of 1978 (5 U.S.C. App.) to provide that certain designated Federal entities shall be establishments under such Act, and for other purposes | Nov. 1, 2000 | 1872
106-423 | Timbisha Shoshone Homeland Act | Nov. 1, 2000 | 1875
106-424 | National Transportation Safety Board Amendments Act of 2000 | Nov. 1, 2000 | 1883
106-425 | Santo Domingo Pueblo Claims Settlement Act of 2000 | Nov. 1, 2000 | 1890
106-426 | Making further continuing appropriations for the fiscal year 2001, and for other purposes | Nov. 3, 2000 | 1897
106-427 | Making further continuing appropriations for the fiscal year 2001, and for other purposes | Nov. 4, 2000 | 1898
106-428 | Making further continuing appropriations for the fiscal year 2001, and for other purposes | Nov. 4, 2000 | 1899
106-429* | Making appropriations for foreign operations, export financing, and related programs for the fiscal year ending September 30, 2001, and for other purposes | Nov. 6, 2000 | 1900
106-430 | Needlestick Safety and Prevention Act | Nov. 6, 2000 | 1901
106-431 | Saint Helena Island National Scenic Area Act | Nov. 6, 2000 | 1905
106-432 | Miwaleta Park Expansion Act | Nov. 6, 2000 | 1908
106-433 | Social Security Number Confidentiality Act of 2000 | Nov. 6, 2000 | 1910
106-434 | To provide for the conveyance of a small parcel of public domain land in the San Bernardino National Forest in the State of California, and for other purposes | Nov. 6, 2000 | 1912
106-435 | 2002 Winter Olympic Commemorative Coin Act | Nov. 6, 2000 | 1916
106-436 | To designate the facility of the United States Postal Service located at 3695 Green Road in Beachwood, Ohio, as the “Larry Small Post Office Building” | Nov. 6, 2000 | 1919
106-437 | To permit the payment of medical expenses incurred by the United States Park Police in the performance of duty to be made directly by the National Park Service, to allow for waiver and indemnification in mutual law enforcement agreements between the National Park Service and a State or political subdivision when required by State law, and for other purposes | Nov. 6, 2000 | 1920
106-438 | To designate the facility of the United States Postal Service located at 900 East Fayette Street in Baltimore, Maryland, as the “Judge Harry Augustus Cole Post Office Building” | Nov. 6, 2000 | 1922
106-439 | To designate the facility of the United States Postal Service located at 1001 Frederick Road in Baltimore, Maryland, as the “Frederick L. Dewberry, Jr. Post Office Building” | Nov. 6, 2000 | 1923
106-440 | To designate the facility of the United States Postal Service located at 2108 East 38th Street in Erie, Pennsylvania, as the “Gertrude A. Barber Post Office Building” | Nov. 6, 2000 | 1924
106-441 | To designate the facility of the United States Postal Service located at 110 Postal Way in Carrollton, Georgia, as the “Samuel P. Roberts Post Office Building” | Nov. 6, 2000 | 1925
106-442 | To amend the Omnibus Parks and Public Lands Management Act of 1996 to extend the legislative authority for the Black Patriots Foundation to establish a commemorative work | Nov. 6, 2000 | 1926
106-443 | To extend the authority of the Los Angeles Unified School District to use certain park lands in the City of South Gate, California, which were acquired with amounts provided from the land and water conservation fund, for elementary school purposes | Nov. 6, 2000 | 1927
106-444 | Freedmen's Bureau Records Preservation Act of 2000 | Nov. 6, 2000 | 1929
106-445 | United States Mint Numismatic Coin Clarification Act of 2000 | Nov. 6, 2000 | 1931
106-446 | To amend title 10, United States Code, to facilitate the adoption of retired military working dogs by law enforcement agencies, former handlers of these dogs, and other persons capable of caring for these dogs | Nov. 6, 2000 | 1932
106-447 | Indian Tribal Regulatory Reform and Business Development Act of 2000 | Nov. 6, 2000 | 1934
106-448 | To amend the Immigration and Nationality Act to provide a waiver of the oath of renunciation and allegiance for naturalization of aliens having certain disabilities. | Nov. 6, 2000 | 1939
106-449 | To modify the date on which the Mayor of the District of Columbia submits a performance accountability plan to Congress, and for other purposes | Nov. 6, 2000 | 1940
106-450 | To amend the Fishermen's Protective Act of 1967 to extend the period during which reimbursement may be provided to owners of United States fishing vessels for costs incurred when such a vessel is seized and detained by a foreign country, and for other purposes | Nov. 7, 2000 | 1941
106-451 | Wartime Violation of Italian American Civil Liberties Act | Nov. 7, 2000 | 1947
106-452 | To redesignate the facility of the United States Postal Service located at 2339 North California Avenue in Chicago, Illinois, as the “Roberto Clemente Post Office” | Nov. 7, 2000 | 1950
106-453 | To redesignate the facility of the United States Postal Service located at 1568 South Green Road in South Euclid, Ohio, as the “Arnold C. D'Amico Station” | Nov. 7, 2000 | 1951
106-454 | To designate the facility of the United States Postal Service located at 219 South Church Street in Odum, Georgia, as the “Ruth Harris Coleman Post Office Building” | Nov. 7, 2000 | 1952
106-455 | Glacier Bay National Park Resource Management Act of 2000 | Nov. 7, 2000 | 1953
106-456 | Spanish Peaks Wilderness Act of 2000 | Nov. 7, 2000 | 1955
106-457 | Estuaries and Clean Waters Act of 2000 | Nov. 7, 2000 | 1957
106-458 | Arizona National Forest Improvement Act of 2000 | Nov. 7, 2000 | 1983
106-459 | To amend the Colorado River Basin Salinity Control Act to authorize additional measures to carry out the control of salinity upstream of Imperial Dam in a cost-effective manner | Nov. 7, 2000 | 1987
106-460 | To direct the Secretary of the Interior to issue to the Landusky School District, without consideration, a patent for the surface and mineral estates of certain lots, and for other purposes | Nov. 7, 2000 | 1988
106-461 | Hoover Dam Miscellaneous Sales Act | Nov. 7, 2000 | 1989
106-462 | Indian Land Consolidation Act Amendments of 2000 | Nov. 7, 2000 | 1991
106-463 | Coal Market Competition Act of 2000 | Nov. 7, 2000 | 2010
106-464 | Native American Business Development, Trade Promotion, and Tourism Act of 2000 | Nov. 7, 2000 | 2012
106-465 | Sand Creek Massacre National Historic Site Establishment Act of 2000 | Nov. 7, 2000 | 2019
106-466 | Nampa and Meridian Conveyance Act | Nov. 7, 2000 | 2024
106-467 | To authorize the Secretary of the Interior to enter into contracts with the Solano County Water Agency, California, to use Solano Project facilities for impounding, storage, and carriage of nonproject water for domestic, municipal, industrial, and other beneficial purposes | Nov. 9, 2000 | 2026
106-468 | Kristen's Act | Nov. 9, 2000 | 2027
106-469 | Energy Act of 2000 | Nov. 9, 2000 | 2029
106-470 | Upper Housatonic National Heritage Area Study Act of 2000 | Nov. 9, 2000 | 2055
106-471 | To designate certain National Forest System lands within the boundaries of the State of Virginia as wilderness areas | Nov. 9, 2000 | 2057
106-472 | Grain Standards and Warehouse Improvement Act of 2000 | Nov. 9, 2000 | 2058
106-473 | Washington-Rochambeau Revolutionary Route National Heritage Act of 2000 | Nov. 9, 2000 | 2083
106-474 | National Recording Preservation Act of 2000 | Nov. 9, 2000 | 2085
106-475 | Veterans Claims Assistance Act of 2000 | Nov. 9, 2000 | 2096
106-476 | Tariff Suspension and Trade Act of 2000 | Nov. 9, 2000 | 2101
106-477 | To designate the United States courthouse located at 3470 12th Street in Riverside, California, as the “George E. Brown, Jr. United States Courthouse” | Nov. 9, 2000 | 2182
106-478 | To designate the United States courthouse located at 1010 Fifth Avenue in Seattle, Washington, as the “William Kenzo Nakamura United States Courthouse” | Nov. 9, 2000 | 2183
106-479 | To authorize the Frederick Douglass Gardens, Inc., to establish a memorial and gardens on Department of the Interior lands in the District of Columbia or its environs in honor and commemoration of Frederick Douglass | Nov. 9, 2000 | 2184
106-480 | To designate a building proposed to be located within the boundaries of the Chincoteague National Wildlife Refuge, as the “Herbert H. Bateman Education and Administrative Center” | Nov. 9, 2000 | 2186
106-481 | Library of Congress Fiscal Operations Improvement Act of 2000 | Nov. 9, 2000 | 2187
106-482 | To authorize the Secretary of the Interior to acquire by donation suitable land to serve as the new location for the home of Alexander Hamilton, commonly known as the Hamilton Grange, and to authorize the relocation of the Hamilton Grange to the acquired land | Nov. 9, 2000 | 2192
106-483 | Recognizing that the Birmingham Pledge has made a significant contribution in fostering racial harmony and reconciliation in the United States and around the world, and for other purposes | Nov. 9, 2000 | 2193
106-484 | Bring Them Home Alive Act of 2000 | Nov. 9, 2000 | 2195
106-485 | To direct the Secretary of the Interior to convey certain land under the jurisdiction of the Bureau of Land Management in Washakie County and Big Horn County, Wyoming, to the Westside Irrigation District, Wyoming, and for other purposes | Nov. 9, 2000 | 2199
106-486 | To review the suitability and feasibility of recovering costs of high altitude rescues at Denali National Park and Preserve in the State of Alaska, and for other purposes | Nov. 9, 2000 | 2201
106-487 | Vicksburg Campaign Trail Battlefields Preservation Act of 2000 | Nov. 9, 2000 | 2202
106-488 | To improve Native hiring and contracting by the Federal Government within the State of Alaska, and for other purposes | Nov. 9, 2000 | 2205
106-489 | To amend title 46, United States Code, to provide equitable treatment with respect to State and local income taxes for certain individuals who perform duties on vessels | Nov. 9, 2000 | 2207
106-490 | To provide that the conveyance by the Bureau of Land Management of the surface estate to certain land in the State of Wyoming in exchange for certain private land will not result in the removal of the land from operation of the mining laws | Nov. 9, 2000 | 2208
106-491 | To amend the Act which established the Saint-Gaudens National Historic Site, in the State of New Hampshire, by modifying the boundary and for other purposes | Nov. 9, 2000 | 2209
106-492 | National Law Enforcement Museum Act | Nov. 9, 2000 | 2210
106-493 | To provide for equal exchanges of land around the Cascade Reservoir | Nov. 9, 2000 | 2213
106-494 | To provide for the conveyance of certain land to Park County, Wyoming | Nov. 9, 2000 | 2214
106-495 | To permit the conveyance of certain land in Powell, Wyoming | Nov. 9, 2000 | 2216
106-496 | Bend Feed Canal Pipeline Project Act of 2000 | Nov. 9, 2000 | 2218
106-497 | Indian Arts and Crafts Enforcement Act of 2000 | Nov. 9, 2000 | 2219
106-498 | Klamath Basin Water Supply Enhancement Act of 2000 | Nov. 9, 2000 | 2221
106-499 | To authorize the Secretary of the Interior to conduct a study to investigate opportunities to better manage the water resources in the Salmon Creek watershed of the Upper Columbia River | Nov. 9, 2000 | 2223
106-500 | To assist in establishment of an interpretive center and museum in the vicinity of the Diamond Valley Lake in southern California to ensure the protection and interpretation of the paleontology discoveries made at the lake and to develop a trail system for the lake for use by pedestrians and nonmotorized vehicles | Nov. 9, 2000 | 2224
106-501 | Older Americans Act Amendments of 2000 | Nov. 13, 2000 | 2226
106-502 | Fisheries Restoration and Irrigation Mitigation Act of 2000 | Nov. 13, 2000 | 2294
106-503 | To authorize appropriations for the United States Fire Administration, and for carrying out the Earthquake Hazards Reduction Act of 1977, for fiscal years 2001, 2002, and 2003, and for other purposes | Nov. 13, 2000 | 2298
106-504 | To amend the Organic Act of Guam, and for other purposes | Nov. 13, 2000 | 2309
106-505 | Public Health Improvement Act | Nov. 13, 2000 | 2314
106-506 | Lake Tahoe Restoration Act | Nov. 13, 2000 | 2351
106-507 | To provide for the posthumous promotion of William Clark of the Commonwealth of Virginia and the Commonwealth of Kentucky, co-leader of the Lewis and Clark Expedition, to the grade of captain in the Regular Army | Nov. 13, 2000 | 2359
106-508 | To provide for increased penalties for violations of the Export Administration Act of 1979, and for other purposes | Nov. 13, 2000 | 2360
106-509 | Ala Kahakai National Historic Trail Act | Nov. 13, 2000 | 2361
106-510 | Hawaii Volcanoes National Park Adjustment Act of 2000 | Nov. 13, 2000 | 2363
106-511 | To provide for equitable compensation for the Cheyenne River Sioux Tribe, and for other purposes | Nov. 13, 2000 | 2365
106-512 | Palmetto Bend Conveyance Act | Nov. 13, 2000 | 2378
106-513 | National Marine Sanctuaries Amendments Act of 2000 | Nov. 13, 2000 | 2381
106-514 | Coastal Barrier Resources Reauthorization Act of 2000 | Nov. 13, 2000 | 2394
106-515 | America's Law Enforcement and Mental Health Project | Nov. 13, 2000 | 2399
106-516 | Harriet Tubman Special Resource Study Act | Nov. 13, 2000 | 2404
106-517 | Bulletproof Vest Partnership Grant Act of 2000 | Nov. 13, 2000 | 2407
106-518 | Federal Courts Improvement Act of 2000 | Nov. 13, 2000 | 2410
106-519 | FSC Repeal and Extraterritorial Income Exclusion Act of 2000 | Nov. 15, 2000 | 2423
106-520 | Making further continuing appropriations for the fiscal year 2001, and for other purposes | Nov. 15, 2000 | 2436
106-521 | To authorize the enforcement by State and local governments of certain Federal Communications Commission regulations regarding use of citizens band radio equipment | Nov. 22, 2000 | 2438
106-522 | District of Columbia Appropriations Act, 2001 | Nov. 22, 2000 | 2440
106-523 | Military Extraterritorial Jurisdiction Act of 2000 | Nov. 22, 2000 | 2488
106-524 | To revise the boundary of Fort Matanzas National Monument, and for other purposes | Nov. 22, 2000 | 2493
106-525 | Minority Health and Health Disparities Research and Education Act of 2000 | Nov. 22, 2000 | 2495
106-526 | Bend Pine Nursery Land Conveyance Act | Nov. 22, 2000 | 2512
106-527 | To adjust the boundary of the Natchez Trace Parkway, Mississippi, and for other purposes | Nov. 22, 2000 | 2515
106-528 | Airport Security Improvement Act of 2000 | Nov. 22, 2000 | 2517
106-529 | Saint Croix Island Heritage Act | Nov. 22, 2000 | 2524
106-530 | Great Sand Dunes National Park and Preserve Act of 2000 | Nov. 22, 2000 | 2527
106-531 | Reports Consolidation Act of 2000 | Nov. 22, 2000 | 2537
106-532 | Dairy Market Enhancement Act of 2000 | Nov. 22, 2000 | 2541
106-533 | To amend the Congressional Award Act to establish a Congressional Recognition for Excellence in Arts Education Board | Nov. 22, 2000 | 2545
106-534 | Protecting Seniors From Fraud Act | Nov. 22, 2000 | 2555
106-535 | To designate the facility of the United States Postal Service located at 431 North George Street in Millersville, Pennsylvania, as the “Robert S. Walker Post Office” | Nov. 22, 2000 | 2559
106-536 | To amend the Immigration and Nationality Act to provide special immigrant status for certain United States international broadcasting employees | Nov. 22, 2000 | 2560
106-537 | Making further continuing appropriations for the fiscal year 2001, and for other purposes | Dec. 5, 2000 | 2562
106-538 | To establish the Las Cienegas National Conservation Area in the State of Arizona | Dec. 6, 2000 | 2563
106-539 | Making further continuing appropriations for the fiscal year 2001, and for other purposes | Dec. 7, 2000 | 2570
106-540 | Making further continuing appropriations for the fiscal year 2001, and for other purposes | Dec. 8, 2000 | 2571
106-541 | Water Resources Development Act of 2000 | Dec. 11, 2000 | 2572
106-542 | Making further continuing appropriations for the fiscal year 2001, and for other purposes | Dec. 11, 2000 | 2713
106-543 | Making further continuing appropriations for the fiscal year 2001, and for other purposes | Dec. 15, 2000 | 2714
106-544 | Presidential Threat Protection Act of 2000 | Dec. 19, 2000 | 2715
106-545 | ICCVAM Authorization Act of 2000 | Dec. 19, 2000 | 2721
106-546 | DNA Analysis Backlog Elimination Act of 2000 | Dec. 19, 2000 | 2726
106-547 | Enhanced Federal Security Act of 2000 | Dec. 19, 2000 | 2738
106-548 | To direct the Secretary of Agriculture to convey to the town of Dolores, Colorado, the current site of the Joe Rowell Park | Dec. 19, 2000 | 2741
106-549 | To authorize the Secretary of the Interior to contract with the Mancos Water Conservancy District to use the Mancos Project facilities for impounding, storage, diverting, and carriage of nonproject water for the purpose of irrigation, domestic, municipal, industrial, and any other beneficial purposes | Dec. 19, 2000 | 2743
106-550 | James Madison Commemoration Commission Act | Dec. 19, 2000 | 2745
106-551 | Chimpanzee Health Improvement, Maintenance, and Protection Act | Dec. 20, 2000 | 2752
106-552 | To redesignate the facility of the United States Postal Service located at 514 Express Center Road in Chicago, Illinois, as the “J.T. Weeker Service Center” | Dec. 20, 2000 | 2761
106-553* | Making appropriations for the government of the District of Columbia and other activities chargeable in whole or in part against the revenues of said District for the fiscal year ending September 30, 2001, and for other purposes | Dec. 21, 2000 | 2762
106-554* | Consolidated Appropriations Act, 2001 | Dec. 21, 2000 | 2763
106-555 | Striped Bass Conservation, Atlantic Coastal Fisheries Management, and Marine Mammal Rescue Assistance Act of 2000 | Dec. 21, 2000 | 2765
106-556 | To designate the facility of the United States Postal Service located at 200 South George Street in York, Pennsylvania, as the “George Atlee Goodling Post Office Building” | Dec. 21, 2000 | 2771
106-557 | Shark Finning Prohibition Act | Dec. 21, 2000 | 2772
106-558 | To amend the National Forest and Public Lands of Nevada Enhancement Act of 1988 to adjust the boundary of the Toiyabe National Forest, Nevada, and to amend chapter 55 of title 5, United States Code, to authorize equal overtime pay provisions for all Federal employees engaged in wildland fire suppression operations | Dec. 21, 2000 | 2776
106-559 | Indian Tribal Justice Technical and Legal Assistance Act of 2000 | Dec. 21, 2000 | 2778
106-560 | Interstate Transportation of Dangerous Criminals Act of 2000 | Dec. 21, 2000 | 2784
106-561 | Paul Coverdell National Forensic Sciences Improvement Act of 2000 | Dec. 21, 2000 | 2787
106-562 | To complete the orderly withdrawal of the NOAA from the civil administration of the Pribilof Islands, Alaska, and to assist in the conservation of coral reefs, and for other purposes | Dec. 23, 2000 | 2794
106-563 | Lincoln Highway Study Act of 2000 | Dec. 23, 2000 | 2809
106-564 | To establish a standard time zone for Guam and the Commonwealth of the Northern Mariana Islands, and for other purposes | Dec. 23, 2000 | 2811
106-565 | Jamestown 400th Commemoration Commission Act of 2000 | Dec. 23, 2000 | 2812
106-566 | To direct the Secretary of the Interior to conduct a study on the reclamation and reuse of water and wastewater in the State of Hawaii, and for other purposes | Dec. 23, 2000 | 2818
106-567 | Intelligence Authorization Act for Fiscal Year 2001 | Dec. 27, 2000 | 2831
106-568 | Omnibus Indian Advancement Act | Dec. 27, 2000 | 2868
106-569 | American Homeownership and Economic Opportunity Act of 2000 | Dec. 27, 2000 | 2944
106-570 | Assistance for International Malaria Control Act | Dec. 27, 2000 | 3038
106-571 | Federal Physicians Comparability Allowance Amendments of 2000 | Dec. 28, 2000 | 3054
106-572 | Computer Crime Enforcement Act | Dec. 28, 2000 | 3058
106-573 | Installment Tax Correction Act of 2000 | Dec. 28, 2000 | 3061
106-574 | To authorize the addition of land to Sequoia National Park, and for other purposes | Dec. 28, 2000 | 3062
106-575 | To authorize the Forest Service to convey certain lands in the Lake Tahoe Basin to the Washoe County School District for use as an elementary school site | Dec. 28, 2000 | 3063
106-576 | Lower Rio Grande Valley Water Resources Conservation and Improvement Act of 2000 | Dec. 28, 2000 | 3065
106-577 | To establish the California Trail Interpretive Center in Elko, Nevada, to facilitate the interpretation of the history of development and use of trails in the settling of the western portion of the United States, and for other purposes | Dec. 28, 2000 | 3068
106-578 | Internet False Identification Prevention Act of 2000 | Dec. 28, 2000 | 3075
106-579 | National Moment of Remembrance Act | Dec. 28, 2000 | 3078
106-580 | National Institute of Biomedical Imaging and Bioengineering Establishment Act | Dec. 29, 2000 | 3088

————————
*Note: Public Laws 106-346, 377, 387, 398, 429, 553, and 554 will contain appendixes which incorporate the text of certain bills that have been enacted into law by reference.